DEPARTMENT OF TRANSPORTATION

Surface Transportation Board

Notice and Request for Comments

AGENCY: Surface Transportation Board, DOT.

ACTION: 30-day notice of request for approval: Report of Fuel Cost, Consumption, and Surcharge Revenue.

SUMMARY: As required by the Paperwork Reduction Act of 1995, 44 U.S.C. 3501-3519 (PRA), the Surface Transportation Board (STB or Board) has submitted a request to the Office of Management and Budget (OMB) for an extension of approval for the collection of the Rail Fuel Surcharge Report. The Board previously published a notice about this collection in the Federal Register on June 29, 2010, at 75 FR 37,522. That notice allowed for a 60-day public review and comment period. No comments were received. The current notice corrects an error in prior notices about this report, which incorrectly stated that the frequency of the collection was monthly with a per-response burden of one hour. As correctly stated in this notice, the reports are collected quarterly with a per-response burden of 3 hours. The Rail Fuel Surcharge Report is described in detail below. Comments may now be submitted to OMB concerning (1) the accuracy of the Board's burden estimates; (2) ways to enhance the quality, utility, and clarity of the information collected; (3) ways to minimize the burden of the collection of information on the respondents, including the use of automated collection techniques or other forms of information technology, when appropriate; and (4) whether this collection of information is necessary for the proper performance of the functions of the Board, including whether the collection has practical utility.

Description of Collection

Title: Report of Fuel Cost, Consumption, and Surcharge Revenue.

OMB Control Number: 2140-0014.

STB Form Number: None

Type of Review: Extension without change.

Respondents: Class I railroads (railroads with operating revenues exceeding $250 million in 1991 dollars).

Number of Respondents: 7.

Estimated Time per Response: 3 hours.

Frequency: Quarterly.

Total Burden Hours (annually including all respondents): 84 hours.

Total “Non-hour Burden” Cost: None identified.

Needs and Uses: Under 49 U.S.C. 10702, the Surface Transportation Board has the authority to address the reasonableness of a rail carrier's practices. This information collection is intended to permit the Board to monitor the current fuel surcharge practices of the Class I carriers. Failure to collect this information would impede the Board's ability to monitor the current fuel surcharge practices of Class I carriers. The Board has authority to collect information about rail costs and revenues under 49 U.S.C. 11144 and 11145.

Retention Period: Information in this report is maintained on the Board's Web site for a minimum of one year and is otherwise maintained by the Board for a minimum of two years.

DATES: Comments on this information collection should be submitted by November 29, 2010.

ADDRESSES: Written comments should be identified as “Paperwork Reduction Act Comments, Surface Transportation Board, Rail Fuel Surcharge Report.” These comments should be directed to the Office of Management and Budget, Office of Information and Regulatory Affairs, Attention: Chandana Achanta, Surface Transportation Board Desk Officer, by fax at (202) 395-6974; by mail at Room 10235, 725 17th Street, NW., Washington, DC 20503; or by e-mail at OIRA_SUBMISSION@OMB.EOP.GOV.

For Further Information or To Obtain a Copy of the STB Form, Contact: For additional information or copies of the Rail Fuel Surcharge Report form, contact Marcin Skomial at (202) 245-0344 or skomialm@stb.dot.gov, or Paul Aguiar at (202) 245-0323 or paul.aguiar@stb.dot.gov. [Assistance for the hearing impaired is available through the Federal Information Relay Service (FIRS) at 1-800-877-8339.]

SUPPLEMENTARY INFORMATION: Under the PRA, a Federal agency conducting or sponsoring a collection of information must display a currently valid OMB control number. A collection of information, which is defined in 44 U.S.C. 3502(3) and 5 CFR 1320.3(c), includes agency requirements that persons submit reports, keep records, or provide information to the agency, third parties, or the public. Under 3506(b) of the PRA, Federal agencies are required to provide, concurrent with an agency's submitting a collection to OMB for approval, a 30-day notice and comment period, through publication in the Federal Register, concerning each proposed collection of information, including each proposed extension of an existing collection of information.

Dated: October 26, 2010.
Jeffrey Herzig,
Clearance Clerk.

[FR Doc. 2010-27419 Filed 10-28-10; 8:45 am]

BILLING CODE 4915-01-P